DEPARTMENT OF THE INTERIOR

National Park Service

[NPS-SER-VIIS-35617; PS.SSELA386.00.1]

Land Exchange at Virgin Islands National Park

AGENCY: National Park Service, Interior.

ACTION: Notice of land exchange.

SUMMARY: The National Park Service has identified a federally owned parcel of land to be suitable for disposal by exchange. The selected Federal land to be exchanged is within the boundary of the Virgin Islands National Park (Park) but is not essential for administration of the park unit. The land was surveyed during a National Environmental Policy Act (NEPA)/Environmental Assessment process for cultural resources and endangered and threatened species.

DATES: The effective date of this boundary revision is April 25, 2023.

COMMENTS AND FURTHER INFORMATION: The comment period on the proposed exchange ends 45 days from the date of publication. Information may be obtained from or comments pertaining to this exchange should be addressed to Russell Webb, Supervisory Realty Specialist, russell_webb@nps.gov and at the above referenced address. Adverse comments will be evaluated, and this action may be modified or vacated accordingly. In the absence of any action to modify or vacate, the land exchange will proceed as proposed.

Detailed information concerning this exchange including precise legal descriptions, Land Protection Plan, and environmental assessment are available at the Land Resources Program Office—National Park Service, 2975 Horseshoe Dr. S, Suite 800, Naples, Florida 34104. The documents specific to the Environmental Assessment/NEPA requirements and the Finding of No Significant Impact are located as follows: https://parkplanning.nps.gov/StJohnLandExchange.

SUPPLEMENTARY INFORMATION: The authority for this exchange is the Act of October 5, 1962, Public Law 87-750, Stat 746, Sec. 2, the Act of July 15, 1968 (54 U.S.C. 102901), and Title 31 V.I. Code § 231a (referred to and cited as the Virgin Islands School Land Exchange Act). The lands granted by the United States in the exchange should be of approximately equal value to the property being acquired and located within the authorized boundaries of the Park. Any difference must be corrected with monetary compensation.

Fee ownership to the federally-owned-land to be exchanged is described as follows: VIIS Tract 01-137A is an 11.3-acre parcel of land acquired by the United States of America by deed recorded in Deed Book 9-X on Page 266 at the District of St. Thomas, St. John Island Clerk's Office. The land is being conveyed in fee simple by a Quitclaim Deed with restrictive covenants and a discretionary right of reverter.

In exchange for the federally owned parcel of land, the United States of America will acquire a 17.97-acre parcel of land currently owned by The Territorial Government of the U.S. Virgin Islands (GVI) lying within the boundary of the Park. The land is being acquired in fee simple with a discretionary right of reverter.

The exchange is necessary to benefit the Park by preserving an undeveloped dry tropical forest and to assist GVI in support of its primary educational needs by providing a suitable location for a future school on the island that was diminished substantially by hurricane damage years ago. Currently, students must commute by boat each day or relocate to St. Thomas during the school year to complete a public high school education.

Mark A. Foust,
Regional Director, Interior Region 2.

[FR Doc. 2023-08623 Filed 4-24-23; 8:45 am]

BILLING CODE 4312-52-P